DEPARTMENT OF HOMELAND SECURITY

[Docket No. DHS-2013-0075]

Executive Order 13650 Improving Chemical Facility Safety and Security Listening Sessions

AGENCY: National Protection and Programs Directorate, DHS.

ACTION: Notice of public listening sessions.

SUMMARY: The Department of Homeland Security (DHS), in coordination with the Department of Labor (DOL) and the Environmental Protection Agency (EPA), is announcing a series of public listening sessions and webinars to solicit comments and suggestions from stakeholders on issues pertaining to Improving Chemical Facility Safety and Security (Executive Order [EO] 13650).

DATES: The public listening sessions will be held from 8:00 a.m. to 4:30 p.m. on the following dates: November 19, 2013, and December 11, 2013. Online webinars will be hosted November 25, 2013, and December 16, 2013. Additional listening sessions may be scheduled in December 2013 and January 2014. We will notify the public of the date(s), time(s), location(s), and other details of any such session(s) as soon as we have information available. Previous public listening sessions were held November 5, 2013 and November 15, 2013.

ADDRESSES: The public listening sessions will be held at the following locations:

• November 19, 2013, Illinois Emergency Management Agency, 2200 Dirksen Parkway, Springfield, IL 62703; and

• December 11, 2013, Valencia Criminal Justice Institute, 8600 Valencia College Lane, Auditorium-150, Orlando, FL 32825.

Note: Previous public listening sessions were held:

• November 5, 2013, College of the Mainland, 1200 Amburn Road, Texas City, TX 77591, Learning Resource Center, Room 131; and

• November 15, 2013, GSA's ROB Auditorium, 301 7th Street SW., (7th and D Streets), Washington, DC 20407.

Submit written comments to the DHS Docket Office, Docket No. DHS-2013-0075, Technical Data Center, Room N-2625, U.S. Department of Labor, 200 Constitution Avenue NW., Washington, DC 20210. Comments will also be accepted by email at: eo.chemical@hq.dhs.gov. All comments should be identified with Docket No. DHS-2013-0075.

Registration to Attend and/or to Participate: If you wish to attend any public listening session and/or a Webinar and/or make an oral comment/presentation at both the in-person and Webinar listening sessions, you must register at www.GovEvents.com. When registering, you must indicate that you wish to make a comment/presentation and indicate the related EO topic. Registration for those wishing to make comments will be on a first come, first served basis provided a cross-section of stakeholders are represented by the speakers. Comments are requested not to exceed five minutes. Actual schedule for the presentations will depend on the number of requests. There is no fee to register for the public listening sessions or Webinars. Same-day registration at a listening session is permitted but only on a space-available basis, beginning at 8:00 a.m. We will do our best to accommodate all persons who wish to make a comment/presentation at a listening session or webinar. The EO Working Group encourages persons and groups having similar interests to consolidate their information for presentation through a single representative. Each participant will be notified prior to the listening session or webinar of the approximate time that the participant's comment/presentation is scheduled to begin. Registration for the in-person listening sessions and webinars can be found at www.GovEvents.com.

FOR FURTHER INFORMATION CONTACT: For further information please email: eo.chemical@hq.dhs.gov. Individuals with access and functional needs wishing to attend the sessions and/or webinar and requiring accommodations should contact Kathryn Willcutts at Kathryn.Willcutts@hq.dhs.gov as soon as possible.

SUPPLEMENTARY INFORMATION:

I. Background

On August 1, 2013, President Obama issued EO 13650 to improve chemical facility safety and security. The Working Group charged with implementing the EO is co-chaired by DHS, DOL, and EPA, and includes participation from the Departments of Justice, Agriculture, and Transportation.

Obtaining stakeholder input is critical to the success of the EO. To that end, the EO Working Group is scheduling public listening sessions around the country, as well as several Webinars. Attendees will have an opportunity to provide input EO related on topics such as: Improving operational coordination with Federal, state, tribal, and local partners; enhanced information collection and sharing; modernizing regulations, guidance, and policies; and identifying best practices in chemical facility safety and security. In particular, the EO Working Group is interested in hearing from the following stakeholders: Chemical producers, chemical storage companies, agricultural supply companies, state and local regulators, chemical critical infrastructure owners and operators, first responders, labor organizations representing affected workers, environmental and community groups, and consensus standards organizations. Input from these public listening sessions will be used to inform the EO Working Groups' efforts to improve chemical regulation and better protect the nation. Basic information on the EO can be found at: http://www.dhs.gov/topic/chemical-security.

II. Scope of Public Listening Sessions

The Working Group is interested in obtaining information from the public on key issues impacting the EO. In particular, the EO Working Group seeks comments on the following:

• Improving operational coordination with state, tribal, and local partners;

• Enhanced information collection and sharing;

• Modernizing regulations, guidance, and policies; and

• Identifying best practices in chemical facility safety and security.

III. Request for Comments

Regardless of attendance at the public listening sessions and Webinars, interested persons may submit comments to the DHS Docket Office, Docket No. DHS-2013-0075, Technical Data Center, Room N-2625, U.S. Department of Labor, 200 Constitution Avenue NW., Washington, DC 20210. Comments will also be accepted by email at: eo.chemical@hq.dhs.gov or through the Federal eRulemaking Portal at http://www.regulations.gov.

IV. Notes

Participants that do speak will be asked to provide their name, title, company and stakeholder segment (i.e. chemical producers, chemical storage companies, agricultural supply companies, state and local regulators, chemical critical infrastructure owners and operators, first responders, labor organizations representing affected workers, environmental and community groups, and consensus standards organizations). Notes from the listening sessions will be posted at http://www.regulations.gov. The public listening sessions may also be recorded to support the note taking effort.

Dated: November 13, 2013.
Caitlin Durkovich,
Assistant Secretary, Office of Infrastructure Protection.

[FR Doc. 2013-27681 Filed 11-18-13; 8:45 am]

BILLING CODE 9110-9P-P